DEPARTMENT OF ENERGY

Federal Energy Regulatory Commission

[Docket No. IC99-715-001, FERC Form No. 715]

Information Collection Submitted for Review and Request for Comments

May 3, 2000.

AGENCY: Federal Energy Regulatory Commission, DOE.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. 104-13). Any interested person may file comments on the collection of information directly with OMB and should address a copy of those comments to the Commission, as explained below. The Commission received comments from eleven entities in response to an earlier Federal Register notice of August 20, 1999 (64 FR 45522-23) and has responded to those comments in this submission.

DATES: Comments regarding this collection are best assured of having their full effect if received on or before June 8, 2000.

ADDRESSES: Address comments to Office of Management and Budget, Office of Information and Regulatory Affairs, Attention: Federal Energy Regulatory Commission Desk Officer, 725 17th Street N.W., Washington, D.C. 20503. A copy of the comments should also be sent to Federal Energy Regulatory Commission, Office of the Chief Information Officer, Attention: Mr. Michael Miller, 888 First Street, NE, Washington, DC 20426. Mr. Miller may be reached by telephone at (202) 208-1415 and by e-mail at mike.miller@ferc.fed.us

SUPPLEMENTARY INFORMATION:

Description

The energy information collection submitted to OMB for review contains:

1. Collection of Information: FERC Form 715, “Annual Transmission Planning and Evaluation Report.”

2. Sponsor: Federal Energy Regulatory Commission.

3. Control No.: 1902-0171. The Commission is now requesting that OMB approve a three year extension of the current expiration date, with no changes to the existing collection. This is a mandatory collection requirement.

4. Necessity of Collection of Information: Submission of the information is necessary to enable the Commission to carry out its responsibilities in implementing provisions of Section 213 of the Federal Power Act. Section 213(b) requires the Commission to collect annually from transmitting utilities sufficient information about their transmission systems to inform potential transmission customers, state regulatory authorities, and the public of available transmission capacity and constraints. This information collection also supports the Commission's expanded responsibilities under Sections 211, 212, 304, 307(a), 309 and 311 of the Federal Power Act as amended, for reviewing reliability issues, market structure relationships, for rate and other regulatory proceedings.

5. Respondent Description: The respondent universe currently comprises approximately 117 public utilities. There are 273 regulated transmitting utilities, however, many of these utilities submit some or all of the information through their North American Electric Reliability Council (NERC) regions. With three exceptions, power flow base cases are filed by each utility's NERC region, a total of nine regions. The descriptions of each utility's transmission planning assessment practices, including how reliability criteria are applied, the descriptions of the transmission planning reliability criteria used to evaluate system performance, system maps and diagrams are submitted separately by 117 respondents.

6. Estimated Burden: 18,720 total burden hours, 117 respondents, 1 response annually, 160 hours per response.

Statutory Authority: Sections 213 of the FPA (16 U.S.C. 8241) and Sections 211, 212, 304, 307(a), 309, and 311 of the Federal Power Act (FPA). (16 U.S.C. 824j-825(i)).

David P. Boergers,
Secretary.

[FR Doc. 00-11487 Filed 5-8-00; 8:45 am]

BILLING CODE 6717-01-M